DEPARTMENT OF COMMERCE

International Trade Administration

President's Advisory Council on Doing Business in Africa: Meeting of the President's Advisory Council on Doing Business in Africa

AGENCY: International Trade Administration, U.S. Department of Commerce.

ACTION: Notice of an open meeting by teleconference.

SUMMARY: The President's Advisory Council on Doing Business in Africa (Council) will hold an open call to deliberate a recommendation related to infrastructure development in Sub-Saharan Africa and to conduct Council business. The final agenda will be posted at least one week in advance of the meeting on the Council's Web site at http://trade.gov/pac-dbia.

DATES: November 19, 2015 at 10:00 a.m. ET The deadline for members of the public to register, including requests for auxiliary aids, or to submit written comments for dissemination prior to the meeting, is 5:00 p.m. ET on November 17, 2015.

ADDRESSES: Via teleconference. The call-in number and passcode will be provided by email to registrants. Requests to register (including for auxiliary aids) and any written comments should be submitted to Tricia Van Orden, Executive Secretary, President's Advisory Council on Doing Business in Africa, electronically via email sent to dbia@trade.gov or via letter mailed to Room 4043, 1401 Constitution Avenue NW., Washington, DC 20230. Members of the public are encouraged to submit registration requests and written comments via email to ensure timely receipt.

FOR FURTHER INFORMATION CONTACT: Tricia Van Orden, Executive Secretary, President's Advisory Council on Doing Business in Africa, Room 4043, 1401 Constitution Avenue NW., Washington, DC 20230, telephone: 202-482-5876, email: dbia@trade.gov.

SUPPLEMENTARY INFORMATION:

Background: President Barack Obama directed the Secretary of Commerce to establish the President's Advisory Council on Doing Business in Africa by Executive Order No. 13675 dated August 5, 2014. The Council was established by Charter on November 3, 2014, to advise the President, through the Secretary of Commerce, on strengthening commercial engagement between the United States and Africa, with a focus on advancing the President's Doing Business in Africa Campaign as described in the U.S. Strategy Toward Sub-Saharan Africa of June 14, 2012. This Council is established in accordance with the provisions of the Federal Advisory Committee Act (FACA), as amended, 5 U.S.C. App.

Public Participation: The meeting will be open to the public and will be accessible to people with disabilities. All listeners are required to register in advance by sending an electronic request to dbia@trade.gov or by sending a paper request to the address listed above. Requests must be received by 5:00 p.m. ET on November 17, 2015. Requests for auxiliary aids must be submitted by the registration deadline. Last minute requests will be accepted, but may be impossible to fill.

Public Submissions: The public is invited to submit written statements to the President's Advisory Council on Doing Business in Africa. Statements must be received by 5:00 p.m. ET on November 17, 2015, by either of the following methods:

a. Electronic Submissions

Submit statements electronically to Tricia Van Orden, Executive Secretary, President's Advisory Council on Doing Business in Africa, via email: dbia@trade.gov.

b. Paper Submissions

Send paper statements to Tricia Van Orden, Executive Secretary, President's Advisory Council on Doing Business in Africa, Room 4043, 1401 Constitution Avenue NW., Washington, DC 20230.

Statements will be provided to the members in advance of the meeting for consideration and will be posted on the President's Advisory Council on Doing Business in Africa Web site (http://trade.gov/pac-dbia) without change, including any business or personal information provided such as names, addresses, email addresses, or telephone numbers. All statements received, including attachments and other supporting materials, are part of the public record and subject to public disclosure. You should submit only information that you wish to make publicly available.

Meeting Recording: A recording of the Council's call will be available within ninety (90) days of the meeting on the Council's Web site at http://trade.gov/pac-dbia.

Dated: October 29, 2015.
Archana Sahgal,
Deputy Director, Office of Advisory Committees and Industry Outreach.

[FR Doc. 2015-28113 Filed 11-3-15; 8:45 am]

BILLING CODE 3510-DR-P